DEPARTMENT OF ENERGY

Federal Energy Regulatory Commission

[Docket Nos. RP06-589-000, RP06-589-001, RP05-617-000]

Texas Gas Transmission, LLC; Notice of Technical Conference

December 6, 2006.

Take notice that the Commission will convene a technical conference on Tuesday, January 9, 2007, at 10 a.m., in a room to be designated at the offices of the Federal Energy Regulatory Commission, 888 First Street, NE., Washington DC 20426.

The technical conference will discuss the issues raised by Texas Gas Transmission, LLC's September 11, 2006 annual filing, as amended September 12, 2006, to adjust its Effective Fuel Retention Percentages pursuant to section 16 of the General Terms and Conditions of its tariff. The order establishing a technical conference was issued on October 31, 2006.¹

¹ Texas Gas Transmission, LLC, 117 FERC ¶ 61,138 (2006).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Joseph Dooley at (202) 502-8385 or e-mail joseph.dooley@ferc.gov.

Magalie R. Salas,
Secretary.

[FR Doc. E6-21095 Filed 12-11-06; 8:45 am]

BILLING CODE 6717-01-P